SECURITIES AND EXCHANGE COMMISSION

Sunshine Act Meetings

TIME AND DATE: Notice is hereby given, pursuant to the provisions of the Government in Sunshine Act, Public Law 94-409, that the Securities and Exchange Commission Investor Advisory Committee will hold a meeting in Atlanta, GA on Thursday, June 14, 2018 at 8:30 a.m. (ET).

PLACE: The meeting will be held in the Knowles Conference Center at Georgia State University College of Law, 85 Park Place Northeast, Atlanta, GA 30303.

STATUS: This meeting will begin at 8:30 a.m. (ET) and will be open to the public. Seating will be on a first-come, first-served basis. Doors will open at 8:00 a.m. The meeting will be webcast on the Commission's website at www.sec.gov.

MATTERS TO BE CONSIDERED: On May 23, 2018, the Commission issued notice of the Committee meeting (Release No. 33-10499) indicating that the meeting is open to the public (except during that portion of the meeting reserved for an administrative work session during lunch), and inviting the public to submit written comments to the Committee. This Sunshine Act notice is being issued because a quorum of the Commission may attend the meeting.

The agenda for the meeting includes: Remarks from Commissioners; a discussion of the Commission's proposed Regulation Best Interest and the proposed restriction on the use of certain names or titles; a discussion regarding the Commission's proposed Form CRS Relationship Summary, including effective disclosure and design; a discussion regarding disclosure enhancements for municipal and corporate bonds (which may include a recommendation of the Market Structure Subcommittee); subcommittee reports; and a nonpublic administrative work session.

CONTACT PERSON FOR MORE INFORMATION: For further information and to ascertain what, if any, matters have been added, deleted or postponed; please contact Brent J. Fields from the Office of the Secretary at (202) 551-5400.

Dated: June 6, 2018.
Brent J. Fields,
Secretary.

[FR Doc. 2018-12541 Filed 6-6-18; 4:15 pm]

BILLING CODE 8011-01-P